DEPARTMENT OF ENERGY

Federal Energy Regulatory Commission

Combined Notice of Filings #1

Take notice that the Commission received the following electric corporate filings:

Docket Numbers: EC16-53-000.

Applicants: South Central MCN LLC.

Description: Amendment to December 22, 2015 Application for Authorization Under Section 203 of the Federal Power Act of South Central MCN LLC.

Filed Date: 3/11/16.

Accession Number: 20160311-5232.

Comments Due: 5 p.m. ET 4/1/16.

Docket Numbers: EC16-86-000.

Applicants: Passadumkeag Windpark, LLC.

Description: Application for Authorization of Disposition of Jurisdictional Facilities Under Section 203 of the FPA and Requests for Waivers, Expedited Action, and Privileged Treatment of Passadumkeag Windpark, LLC.

Filed Date: 3/11/16.

Accession Number: 20160311-5239.

Comments Due: 5 p.m. ET 4/1/16.

Take notice that the Commission received the following exempt wholesale generator filings:

Docket Numbers: EG16-71-000.

Applicants: Hidalgo Wind Farm LLC.

Description: Notice of Self-Certification of Exempt Wholesale Generator Status of Hidalgo Wind Farm LLC.

Filed Date: 3/14/16.

Accession Number: 20160314-5049.

Comments Due: 5 p.m. ET 4/4/16.

Docket Numbers: EG16-72-000.

Applicants: Jericho Rise Wind Farm LLC.

Description: Notice Self-Certification of Exempt Wholesale Generator Status of Jericho Rise Wind Farm LLC.

Filed Date: 3/14/16.

Accession Number: 20160314-5050.

Comments Due: 5 p.m. ET 4/4/16.

Take notice that the Commission received the following electric rate filings:

Docket Numbers: ER13-712-011; ER12-1504-003.

Applicants: Duke Energy Corporation, Cimarron Windpower II, LLC, Cimarron Wind Energy, LLC.

Description: Errata to January 15, 2016 Notification of Non-Material Change in Status of Duke Energy Corporation MBR Sellers.

Filed Date: 3/11/16.

Accession Number: 20160311-5258.

Comments Due: 5 p.m. ET 4/1/16.

Docket Numbers: ER13-826-001; ER14-722-001.

Applicants: RPA Energy, Inc., Utility Expense Reduction, LLC.

Description: Notice of Non-Material Change of RPA Energy, Inc. and Utility Expense Reduction, LLC.

Filed Date: 3/11/16.

Accession Number: 20160311-5230.

Comments Due: 5 p.m. ET 4/1/16.

Docket Numbers: ER15-1344-003.

Applicants: PJM Interconnection, L.L.C.

Description: Compliance filing: Compliance Filing per 2/12/16 order RE: OATT Schedule 12-Appendix A to be effective 2/16/2016.

Filed Date: 3/14/16.

Accession Number: 20160314-5074.

Comments Due: 5 p.m. ET 4/4/16.

Docket Numbers: ER16-1147-000.

Applicants: Southern California Edison Company.

Description: Section 205(d) Rate Filing: GIA & DSA San Gorgonio Westwinds II et al. Altwind Project to be effective 3/11/2016.

Filed Date: 3/11/16.

Accession Number: 20160311-5227.

Comments Due: 5 p.m. ET 4/1/16.

Docket Numbers: ER16-1148-000.

Applicants: Tenaska Energía de Mexico, S. de R. L. d.

Description: Baseline eTariff Filing: Application for Market-Based Rate Authorization and Request for Waivers to be effective 3/12/2016.

Filed Date: 3/11/16.

Accession Number: 20160311-5228.

Comments Due: 5 p.m. ET 4/1/16.

Docket Numbers: ER16-1150-000.

Applicants: Duke Energy Ohio, Inc., PJM Interconnection, L.L.C.

Description: Section 205(d) Rate Filing: Duke Energy submits proposed revisions to OATT to add a new Attachment M-2 to be effective 5/13/2016.

Filed Date: 3/14/16.

Accession Number: 20160314-5042.

Comments Due: 5 p.m. ET 4/4/16.

Docket Numbers: ER16-1152-000.

Applicants: Jericho Rise Wind Farm LLC.

Description: Baseline eTariff Filing: MBR Application to be effective 5/14/2016.

Filed Date: 3/14/16.

Accession Number: 20160314-5073.

Comments Due: 5 p.m. ET 4/4/16.

Docket Numbers: ER16-1153-000.

Applicants: Breadbasket LLC.

Description: Baseline eTariff Filing: Breadbasket LLC MBR Tariff Application to be effective 5/12/2016.

Filed Date: 3/14/16.

Accession Number: 20160314-5099.

Comments Due: 5 p.m. ET 4/4/16.

Docket Numbers: ER16-1154-000.

Applicants: Parrey, LLC.

Description: Initial rate filing: Market-Based Rate Tariff to be effective 4/1/2016.

Filed Date: 3/14/16.

Accession Number: 20160314-5125.

Comments Due: 5 p.m. ET 4/4/16.

Docket Numbers: ER16-1156-000.

Applicants: Kingbird Solar A, LLC.

Description: Compliance filing: Supplement to Application for Order Accepting Initial Market-Based Rate Tariff to be effective 1/12/2016.

Filed Date: 3/14/16.

Accession Number: 20160314-5145.

Comments Due: 5 p.m. ET 4/4/16.

Docket Numbers: ER16-1157-000.

Applicants: Kingbird Solar B, LLC.

Description: Compliance filing: Supplement to Application for Order Accepting Initial Market-Based Rate Tariff to be effective 1/12/2016.

Filed Date: 3/14/16.

Accession Number: 20160314-5147.

Comments Due: 5 p.m. ET 4/4/16.

Docket Numbers: ER16-1161-000.

Applicants: NorthWestern Corporation.

Description: Section 205(d) Rate Filing: SA 776—Montana DOT Utilities Agreement—Bonner 161kV Relocate to be effective 3/15/2016.

Filed Date: 3/14/16.

Accession Number: 20160314-5178.

Comments Due: 5 p.m. ET 4/4/16.

Docket Numbers: ER16-1162-000.

Applicants: Midcontinent Independent System Operator, Inc.

Description: Section 205(d) Rate Filing: 2016-03-14_SA 2904 MS SOLAR 3-SMEPA GIA (J473) to be effective 3/15/2016.

Filed Date: 3/14/16.

Accession Number: 20160314-5222.

Comments Due: 5 p.m. ET 4/4/16.

Docket Numbers: ER16-1173-000.

Applicants: California Power Exchange Corporation.

Description: Petition to Extend Existing Wind-Up Charge Settlement of California Power Exchange Corporation.

Filed Date: 3/14/16.

Accession Number: 20160314-5292.

Comments Due: 5 p.m. ET 4/4/16.

Take notice that the Commission received the following electric reliability filings.

Docket Numbers: RD16-4-000.

Applicants: North American Electric Reliability Corporation.

Description: Petition of the North American Electric Reliability Corporation for Approval of Proposed Reliability Standard FAC-003-4 Project.

Filed Date: 3/14/16.

Accession Number: 20160314-5293.

Comments Due: 5 p.m. ET 4/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2016.
Nathaniel J. Davis, Sr.,
Deputy Secretary.

[FR Doc. 2016-06367 Filed 3-21-16; 8:45 am]

BILLING CODE 6717-01-P